DEPARTMENT OF ENERGY

Federal Energy Regulatory Commission

[Project No. 13694-000]

Current Connection, LLC; Notice of Preliminary Permit Application Accepted for Filing and Soliciting Comments, Motions To Intervene, and Competing Applications

May 11, 2010.

On March 30, 2010, Current Connection, LLC filed an application for a preliminary permit, pursuant to section 4(f) of the Federal Power Act, proposing to study the feasibility of the St. Clair Hydrokinetic Project, located on the St. Clair River, in St. Clair County, Michigan. The sole purpose of a preliminary permit, if issued, is to grant the permit holder priority to file a license application during the permit term. A preliminary permit does not authorize the permit holder to perform any land-disturbing activities or otherwise enter upon lands or waters owned by others without the owners' express permission.

The proposed project would consist of: (1) The installation of 396 turbine-generating units which will be arranged in 6 turbine farms with each farm consisting of 11 turbine groups, containing 6 units each; (2) a control house containing control and synchronizing panels, power conditioning equipment, protective relaying, and communications equipment; (3) a proposed 200-foot-long, 46-kilovolt transmission line; and (4) appurtenant facilities. The proposed St. Clair Hydrokinetic Project would have an average annual generation of 155 gigawatt-hours.

Applicant Contact: Timothy D. Smith, CEO, Current Connection, LLC, 1300 Rankin Drive, Troy, MI 48083; phone: (248) 583-2060.

FERC Contact: Bryan Roden-Reynolds at (202) 502-6618, or via e-mail at bryan.roden-reynolds@ferc.gov.

The deadline for filing comments, motions to intervene, competing applications (without notices of intent), or notices of intent to file competing applications is 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp), under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies of the correspondence to: Kimberly D. Bose, Secretary, Federal Energy Regulatory Commission, 888 First Street, NE., Washington, DC 20426.

More information about this project, including a copy of the application, can be viewed or printed on the Commission's “eLibrary” link at http://www.ferc.gov/docs-filing/elibrary.asp. Enter the docket number (P-13694) in the docket number field to access the document. For assistance, contact FERC Online Support.

Kimberly D. Bose,
Secretary.

[FR Doc. 2010-11784 Filed 5-17-10; 8:45 am]

BILLING CODE 6717-01-P